DEPARTMENT OF AGRICULTURE

Rural Business-Cooperative Service

2014 Farm Bill Implementation Listening Session—Value-Added Producer Grant Program

AGENCY: Rural Business-Cooperative Service, USDA.

ACTION: Notice.

SUMMARY: As part of our implementation of the Agricultural Act of 2014 (commonly referred to as the 2014 Farm Bill), the Rural Business-Cooperative Service (RBS) is hosting a listening session for initial public input about changes to Value-Added Producer Grant (VAPG) program for which RBS has been delegated the authority to implement. The 2014 Farm Bill specifically identifies two new provisions to be implemented for VAPG—(1) an additional priority preference for veteran farmers or ranchers and (2) a priority for projects that best contribute to creating or increasing marketing opportunities for beginning farmers or ranchers, socially disadvantaged farmers or ranchers, operators of small-and medium-sized family farms and ranches that are structured as family farms, and/or veteran farmers or ranchers.

RBS is holding this listening session specifically to provide an opportunity for stakeholders to voice their priorities, concerns, and requests on the “best contributing” priority. Instructions regarding registering for and attending the listening session are in the SUPPLEMENTARY INFORMATION section of this notice.

DATES:

Listening session: The listening session will be on April 25, 2014, and will begin at 1:00 p.m. and is scheduled to end by 4:00 p.m.

Registration: You must register by 5pm ET on April 23, 2014, to attend the listening session and to provide oral comments during the listening session.

Comments: Written comments are due by 5pm ET on April 24, 2014.

ADDRESSES: We invite you to participate in the listening session. The listening session is open to the public. The meeting will be held in the Room 107-A of the Whitten Building at 14th Street and Independence Ave. SW., Washington, DC 20250.

We also invite you to submit comments by any of the following methods:

• Federal eRulemaking Portal: Go to http://www.regulations.gov. Follow the online instructions for submitting comments; or

• Orally at the listening session; please also provide a written copy of your comments online as specified above or in hard copy at the listening session.

FOR FURTHER INFORMATION CONTACT: Andrew Jermolowicz; phone: (202) 720-8460. Persons with disabilities who require alternative means for communication (Braille, large print, audio tape, etc.) should contact the USDA Target Center at (202) 720-2600 (voice and TDD).

SUPPLEMENTARY INFORMATION: On February 7, 2014, the 2014 Farm Bill (Pub. L. 113-79) was signed into law. The Secretary of Agriculture and the respective USDA agencies, including RBS, are working to implement the provisions of the 2014 Farm Bill as expeditiously as possible to meet the needs of producers and other stakeholders. In order to implement the provisions expeditiously and to ensure transparency, it is important to hear from stakeholders to be aware of their priorities, concerns, or requests.

RBS will hold the listening session on April 25, 2014, to receive oral comments from stakeholders and the public. A written copy of the oral comments is requested. (See the ADDRESSES section above for information about submitting written comments.) In addition, stakeholders and the public who do not wish to attend or speak at the listening session are invited to submit written comments, which must be received by 5pm ET April 24, 2014.

As a listening session, the focus is for RBS to hear from the public; this is not a discussion with RBS officials or a question and answer session. As noted above, the purpose is to receive public input that RBS can factor into decisions it needs to make in order to implement the “best contributing” priority of the 2014 Farm Bill for the VAPG program (as outlined as priority #2 of this announcement summary above) .

Date: April 25, 2014

Time: 1:00 p.m.-4:00 p.m.

Location information: USDA headquarters, in the Whitten Building, Room 107-A, 14th Street and Independence Ave. SW., Washington, DC 20250.

The listening session will begin with brief opening remarks from the USDA leadership in Rural Development. Individual speakers providing oral comments are requested to be succinct as we do not know at this time how many participants there will be. As noted above, we request that speakers providing oral comments also provide a written copy of their comments. (See the ADDRESSES section above for information about submitting written comments.) All stakeholders and interested members of the public are welcome to register to provide oral comments; however, due to the time constraints a limited number will be selected on a first come, first serve basis.

The purpose of the listening session is for RBS to hear from stakeholders and other interested members of the public about the “best contributing” priority as required by the 2014 Farm Bill. Please refer to the VAPG program in your comment. In your comments, provide your input about how this provision could be implemented, including your rationale, for us to consider.

Instructions for Attending the Meeting

Space for attendance at the meeting is limited. Due to USDA headquarters security and space requirements, all persons wishing to attend the public meeting or provide oral comments to RBS during the listening session must send an email to Andrew.jermolowicz@wdc.usda.gov by 5 p.m. on April 23, 2014, to register the names of those planning to attend. Registrations will be accepted until maximum room capacity is reached. To register, provide the following information:

• First Name

• Last Name

• Organization

• Title

• Email

• City

• State

Upon arrival at the USDA Whitten Building, registered persons must provide valid photo identification in order to enter the building; visitors need to enter the Whitten Building on the mall side. Please allow extra time to get through security. Additional information about the listening session, agenda, directions to get to the listening session, and how to provide comments is available at the USDA Farm Bill Web site http://www.usda.gov/wps/portal/usda/usdahome?navid=farmbill.

All written comments received will be publicly available on www.regulations.gov. If you require special accommodations, such as a sign language interpreter, use the contact information above. The listening session location is accessible to persons with disabilities.

Dated: April 16, 2014.
Ashli Palmer,
Acting Administrator, Rural Business Cooperative Service.

[FR Doc. 2014-09059 Filed 4-18-14; 8:45 am]

BILLING CODE P